ENVIRONMENTAL PROTECTION AGENCY

[FRL-8312-3]

Establishment of the Adaptation for Climate-Sensitive Ecosystems and Resources Advisory Committee (ACSERAC)

AGENCY: Environmental Protection Agency (EPA).

ACTION: Notice; establishment of a Federal Advisory Committee.

SUMMARY: As required by section 9(a)(2) of the Federal Advisory Committee Act, we are giving notice that EPA is establishing the Adaptation for Climate-Sensitive Ecosystems and Resources Advisory Committee (ACSERAC). The purpose of this Committee is to provide advice on the conduct of a study titled “Preliminary Review of Adaptation Options for Climate-Sensitive Ecosystems and Resources” to be conducted as part of the U.S. Climate Change Science Program (CCSP). This assessment is part of a comprehensive set of assessments identified by the CCSP's Strategic Plan for the Climate Change Science Program. ACSERAC will advise on the specific issues that should be addressed in the assessment, appropriate technical approaches, the type and usefulness of information to decision makers, the content of the final assessment report, compliance with the Information Quality Act, and other matters important to the successful achievement of the objectives of the study. EPA has determined that this federal advisory committee is in the public interest and will assist the Agency in performing its duties under the Clean Water Act, Clean Air Act, and the Global Climate Protection Act. The draft prospectus for the study is on the CCSP Web site at http://www.climatescience.gov/Library/sap/sap4-4/sap4-4prospectus-final.htm. Copies of the Committee Charter will be filed with the appropriate congressional committees and the Library of Congress.

FOR FURTHER INFORMATION CONTACT: Joanna Foellmer (8601D), National Center for Environmental Assessment, Immediate Office, Environmental Protection Agency, 1200 Pennsylvania Avenue, NW., Washington, DC 20460, Telephone number: (202) 564-3208, E-mail address: Foellmer.joanna@epa.gov.

SUPPLEMENTARY INFORMATION:

I. Information About the Document

A copy of the Committee Charter is available at http://www.fido.gov/facadatabase/ after the Committee Charter is filed with Congress. This usually takes up to 25 days from the date of the Federal Register notice. The purpose of the Committee is to provide advice on the conduct of the study titled Preliminary Review of Adaptation Options for Climate-Sensitive Ecosystems and Resources to be conducted as part of the U.S. Climate Change Science Program (CCSP). This study will focus on adaptation to anticipated impacts of climate change on federally owned and managed lands and waters. Within the context of the assessment's prospectus, ACSERAC will advise on the specific issues to be addressed, appropriate technical approaches, the usefulness of information to decision makers, the quality and accurateness of the content of the final assessment report, compliance with the Information Quality Act, and other matters important to the successful achievement of the objectives of the study The draft prospectus for this study is available at: http://www.climatescience.gov/Library/sap/sap4-4/sap4-4prospectus-final.htm. ACSERAC is expected to meet twice in 2007: Once in a face-to-face meeting in the Washington, DC area and a second time via conference call.

Membership: Nominations for membership on the ACSERAC were solicited through the Federal Register. In selecting members, EPA will consider the necessary areas of technical expertise, different scientific perspectives within each technical discipline, and the collective breadth of experience needed to address the Agency's charge.

Dated: March 22, 2007
George Gray,
Assistant Administrator, Office of Research and Development.

[FR Doc. E7-9024 Filed 5-9-07; 8:45 am]

BILLING CODE 6560-50-P